DEPARTMENT OF DEFENSE

Department of the Air Force

Notice of Intent To Prepare an Environmental Impact Statement for Air National Guard F-15EX Eagle II and F-35A Lightning II Beddowns

AGENCY: National Guard Bureau, Department of the Air Force, Department of Defense.

ACTION: Notice of intent.

SUMMARY: The Department of the Air Force (DAF) is issuing this Notice of Intent (NOI) to prepare an Environmental Impact Statement (EIS) to assess the potential social, economic, and environmental impacts associated with beddown of F-15EX and F-35A aircraft that would replace the legacy F-15C/D aircraft. The DAF is the lead agency on the preparation of the EIS and the Department of the Navy and the Federal Aviation Administration are participating as cooperating agencies.

DATES: A public scoping period of 45 days will take place starting from the date of this Notice of Intent (NOI) publication in the Federal Register. Identification of potential alternatives, information, and analyses relevant to the proposed action are requested and will be accepted at any time during the EIS process. To ensure DAF has sufficient time to consider public input in the preparation of the Draft EIS, scoping comments should be submitted in writing to the website or the address listed below within the 45-day scoping period. In-person scoping meetings are scheduled at Fresno, CA on August 9th, Lemoore, CA on August 10th, New Orleans, LA on August 16th, and Westfield, MA on August 18th. Virtual scoping meetings are scheduled at New Orleans, LA on August 23rd, Westfield, MA on August 24th, Fresno and Lemoore on August 25th.

ADDRESSES: The project website (www.ANGF15EX-F35A-EIS.com) provides information on the EIS and the scoping process and can be used to submit scoping comments online. Scoping comments may also be submitted by email to NGB.A4.A4A.NEPA.COMMENTS.org@us.af.mil, including F-15EX_F-35A Beddown EIS in the subject line, or by mail to Mr. Will Strickland, National Guard Bureau, NGB/A4AM, Shepperd Hall, 3501 Fetchet Avenue, Joint Base Andrews, MD 20762-5157; (240) 612-7042. EIS inquiries and requests for digital or print copies of scoping materials are available upon request to Mr. Strickland at the email or mailing address provided. For printed material requests, the standard U.S. Postal Service shipping timeline will apply. Members of the public who want to receive future mailings informing them on the availability of the Draft and Final EIS, or to receive periodic Fact Sheets, are encouraged to submit a comment that includes their name and email or postal mailing address.

SUPPLEMENTARY INFORMATION: The purpose of the Proposed Action is to replace aging F-15C/D aircraft currently utilized by the Air National Guard with the state-of-the-art fighter aircraft to better address future mission requirements, offer expanded capability, and provide life-cycle cost savings in comparison to continued operation of existing F-15C/D aircraft. The Proposed Action is needed because the F-15C/D aircraft are reaching the end of their service life. It is not economically feasible to retain the F-15C/D aircraft beyond fiscal year 2026 and DAF has already begun to retire aircraft that have reached the end of their serviceability. The proposed basing alternatives include the 104th Fighter Wing at Barnes Air National Guard Base (ANGB), Westfield-Barnes Regional Airport, Westfield, Massachusetts; the 144th Fighter Wing at Fresno Yosemite International Airport, Fresno, California; the 144th Fighter Wing at Naval Air Station Lemoore, Lemoore, California; and the 159th Fighter Wing at Naval Air Station Joint Reserve Base New Orleans, Belle Chasse, Louisiana. These aircraft would replace the legacy F-15C/D aircraft at the selected installations, with the exception of NAS Lemoore, which does not currently have F-15C/D aircraft to replace.

The EIS will assess the potential environmental consequences of each alternative in support of these operational beddowns. Each of the two F-15EX beddowns would include one squadron of 21 Primary Aircraft Authorized, 2 Backup Aircraft Inventory, and 1 Aircraft Reserve; the F-35A beddown would include one squadron of 21 Primary Aircraft Authorized and 2 Backup Aircraft Inventory. These aircraft are being acquired in support of the Air National Guard mission.

Resource areas being analyzed for impacts under the Proposed Action include noise, biological resources, cultural resources, socioeconomics, soils and geology, water resources, infrastructure and transportation, land use, hazardous materials and wastes, health and safety, air quality, and environmental justice and other sensitive receptors. Potential significant impacts as a result of the Proposed Action include those related to aircraft noise, air quality, and land use. Should any permits be required for the Proposed Action, the DAF will identify and obtain all appropriate permits. The DAF will also consult with appropriate resource agencies and Native American tribes to determine the potential for significant impacts. Consultation will be incorporated into the preparation of the EIS and will include, but not be limited to, consultation under Section 7 of the Endangered Species Act and consultation under Section 106 of the National Historic Preservation Act.

The Draft EIS is anticipated in summer 2023 and the Final EIS is anticipated in Winter/Spring 2024. The Record of Decision would be approved and signed no earlier than 30 days after the Final EIS.

Scoping and Agency Coordination: To effectively define the full range of issues to be evaluated in the EIS, DAF will determine the scope of the analysis by soliciting comments from interested local, state, and federal elected officials and agencies, Tribes, members of the public, and others. Consistent with Executive Order (E.O.) 11988 and E.O. 11990, this Notice of Intent initiates early public review of the Proposed Action and alternatives and invites public comments and identification of potential alternatives. Comments will be accepted throughout the process, but in order to have comments incorporated into the Draft EIS, comments should be received within 45 days of the publication of this notice in the Federal Register. The scheduled dates, times, locations, and addresses for the scoping meetings are concurrently being published in local media and on the website. Public scoping will be accomplished both remotely and in-person during the scoping period. The project website provides posters, a presentation, an informational fact sheet, downloadable comment forms to fill out and return by mail, and the capability for the public to submit scoping comments online.

Adriane Paris,
Air Force Federal Register Liaison Officer.

[FR Doc. 2022-15328 Filed 7-18-22; 8:45 am]

BILLING CODE 5001-10-P